DEPARTMENT OF ENERGY

Federal Energy Regulatory Commission

[Project No. 2698-109]

Duke Energy Carolinas, LLC; Notice of Comment Period Extension

On January 7, 2019, the Commission issued a notice setting February 6, 2019, as the end of the formal period to file comments, motions to intervene, and protests for the revised shoreline management plan application filed by Duke Energy Carolinas, LLC for its East Fork Hydroelectric Project No. 2698, located on the East Fork of the Tuckasegee River in Jackson County, North Carolina. Due to the funding lapse at certain federal agencies between December 22, 2018, and January 25, 2019, the Commission is extending the comment period until March 1, 2019.

Dated: February 11, 2019.
Kimberly D. Bose,
Secretary.

[FR Doc. 2019-02703 Filed 2-19-19; 8:45 am]

BILLING CODE 6717-01-P